DEPARTMENT OF HEALTH AND HUMAN SERVICES

Centers for Medicare & Medicaid Services

[CMS-1602-N]

Medicare Program: Notice of Two Membership Appointments to the Advisory Panel on Hospital Outpatient Payment

AGENCY: Centers for Medicare & Medicaid Services (CMS), Department of Health and Human Services (HHS).

ACTION: Notice.

SUMMARY: This notice announces two new membership appointments to the Advisory Panel on Hospital Outpatient Payment (HOP, the Panel). The two new appointments to the Panel will each serve a 4-year period. The new members will have terms that begin on February 1, 2013 and continue through January 31, 2017. The purpose of the Panel is to advise the Secretary of the Department of Health and Human Services and the Administrator of the Centers for Medicare & Medicaid Services concerning the clinical integrity of the Ambulatory Payment Classification groups and their relative payment weights. The Panel also addresses and makes recommendations regarding supervision of outpatient services. The advice provided by the Panel will be considered as we prepare the annual updates for the hospital outpatient prospective payment system.

FOR FURTHER INFORMATION CONTACT: For additional information on the Panel meeting dates, agenda topics, copy of the charter, as well as updates to the Panel's activities, search our Internet Web site: https://www.cms.gov/Regulations-and Guidance/Guidance/FACA/AdvisoryPanelonAmbulatoryPaymentClassificationGroups.html For other information regarding the Panel, contact Chuck Braver, the Designated Federal Officer at CMS, Center for Medicare, Hospital and Ambulatory Policy Group, Division of Outpatient Care, 7500 Security Boulevard, Mail Stop C4-05-17, Baltimore, MD 21244-1850, phone (410) 786-3985.

SUPPLEMENTARY INFORMATION:

I. Background

The Department of Health and Human Services (the Secretary) is required by section 1833(t)(9)(A) of the Social Security Act (the Act) (42 U.S.C. 1395l(t)(9)(A)) and section 222 of the Public Health Service Act (PHS Act) (42 U.S.C. 217a) to consult with an expert outside advisory panel on the clinical integrity of the Ambulatory Payment Classification groups and weights. The Advisory Panel on Hospital Outpatient Payment (HOP, the Panel) is governed by the provisions of the Federal Advisory Committee Act (FACA) (Pub. L. 92-463), as amended (5 U.S.C. Appendix 2), which sets forth standards for the formation and use of advisory panels. The Panel Charter provides that the Panel shall meet up to 3 times annually. We consider the technical advice provided by the Panel as we prepare the proposed and final rules to update the outpatient prospective payment system for the following calendar year.

The Panel shall consist of a Chair and up to 19 members who are full-time employees of hospitals, hospital systems, or other Medicare providers. The Secretary or a designee selects the Panel membership based upon either self-nominations or nominations submitted by Medicare providers and other interested organizations. New appointments are made in a manner that ensures a balanced membership under the FACA guidelines.

The Panel presently consists of the following members and a Chair.

• Edith Hambrick, M.D., J.D., Chair, CMS Medical Officer.

• Karen Borman, M.D., FACS.

• Ruth L. Bush, M.D., M.P.H.

• Lanny Copeland, M.D., AAFP.

• Kari S. Cornicelli, C.P.A., FHFMA.

• Dawn L. Francis, M.D., M.H.S.

• David A. Halsey, M.D.

• Brian D. Kavanagh, M.D., MPH.

• Scott Manaker, M.D., Ph.D.

• John Marshall, CRA, RCC, CIRCC, RT(R), FAHRA.

• Jim Nelson, M.B.A., C.P.A., FHFMA.

• Leah Osbahr, M.A., MPH.

• Jacqueline Phillips.

• Daniel J. Pothen, M.S., RHIA, CHPS.

• Gregory Przybylski, M.D.

• Traci Rabine.

• Marianna V. Spanaki-Varela, MD, Ph.D., M.B.A.

• Gale Walker.

II. Provisions of the Notice

We published a notice in the Federal Register on August 24, 2012, entitled ” Medicare Program; Solicitation of Two Nominations to the Advisory Panel on Hospital Outpatient Payment” (77 FR 51542). The notice solicited nominations for two new members to the Advisory Panel on Hospital Outpatient Payment (HOP, the Panel) to fill two vacancies on the panel beginning September 30, 2012. As a result of that notice, we are announcing two new members to the Panel. Their appointments are for 4-year terms beginning on February 1, 2013.

New Appointments to the Panel—The new members of the Panel with terms beginning on February 1, 2013 and continuing through January 31, 2017 are as follows:

• Michael Rabovsky, M.D.

• Kris Zimmer.

III. Collection of Information Requirements

This document does not impose information collection and recordkeeping requirements. Consequently, it need not be reviewed by the Office of Management and Budget under the authority of the Paperwork Reduction Act of 1995 (44 U.S.C. 35).

(Catalog of Federal Domestic Assistance Program; No. 93.773 Medicare—Hospital Insurance Program; and No. 93.774, Medicare—Supplementary Medical Insurance Program) Section 1833(t)(9)(A) of the Act (42 U.S.C. 1395l(t)(9)(A)). The Panel is governed by the provisions of the Federal Advisory Committee Act, as amended (5 U.S.C. Appendix 2).

Dated: January 25, 2013.
Marilyn Tavenner,
Acting Administrator, Centers for Medicare & Medicaid Services.

[FR Doc. 2013-02193 Filed 1-31-13; 8:45 am]

BILLING CODE 4120-01-P